DEPARTMENT OF COMMERCE

International Trade Administration

[A-570-863]

Honey From the People's Republic of China: Final Results of First Antidumping Duty Administrative Review

AGENCY: Import Administration, International Trade Administration, Department of Commerce.

ACTION: Notice of final results of first antidumping duty administrative review.

SUMMARY: On December 16, 2003, the Department published the preliminary results of the first administrative review of the antidumping duty order on honey from the People's Republic of China (PRC) (68 FR 69988). This review covers four exporters or producer/exporters, (1) Zhejiang Native Produce and Animal By-Products Import & Export Corp. a.k.a. Zhejiang Native Produce and Animal By-Products Import and Export Group Corporation (Zhejiang) and its unaffiliated suppliers; (2) Henan Native Produce and Animal By-Products Import & Export Company (Henan); (3) High Hope International Group Jiangsu Foodstuffs Import and Export Corp. (High Hope); and (4) Kunshan Foreign Trade Company (Kunshan), and exports of the subject merchandise to the United States during the period February 10, 2001, through November 30, 2002.¹

¹ As stated in the Preliminary Results, the Department rescinded the administrative reviews of five exporters or producer/exporters. See Honey from the People's Republic of China: Final Rescission, in Part, of Antidumping Duty Administrative Review, 68 FR 44045 (July 25, 2003).

Based on our analysis of the record, including factual information obtained since the preliminary results, we have made changes to Zhejiang's margin calculations to adjust the inflators used to achieve a surrogate raw honey value contemporaneous with the period of review and to adjust our calculation of net U.S. prices. We also adjusted the surrogate value for labor to reflect the updated PRC regression-based wages calculated by the Department. Therefore, the final results differ from the preliminary results. See “Final Results of Review” section below.

EFFECTIVE DATE: May 5, 2004.

FOR FURTHER INFORMATION CONTACT: Angelica Mendoza or Brandon Farlander at (202) 482-3019 or (202) 482-0182, respectively; Antidumping and Countervailing Duty Enforcement Group III, Import Administration, International Trade Administration, U.S. Department of Commerce, 14th Street and Constitution Avenue, NW., Washington, DC 20230.

SUPPLEMENTARY INFORMATION:

Background

We published in the Federal Register the preliminary results of the first administrative review on December 16, 2003. See Notice of Preliminary Results of First Administrative Antidumping Duty Review: Honey from the People's Republic of China, 68 FR 69988 (December 16, 2003) (Preliminary Results).

The period of review (POR) is February 10, 2001, through November 30, 2002. We invited parties to comment on our Preliminary Results. We received case briefs from the respondent, Zhejiang, and the American Honey Producers Association and the Sioux Honey Association (collectively, petitioners), on January 21, 2004.² We received rebuttal briefs from the same parties on January 27, 2004.³ On January 28, 2004, we held a public hearing for this review.

² On January 28, 2004, Zhejiang submitted a letter of objection to new factual information contained in petitioners' rebuttal brief. Per the Department's letter dated February 13, 2004, petitioners re-filed their rebuttal brief on February 18, 2004.

³ In their rebuttal brief dated January 28, 2004, petitioners alleged that Zhejiang had submitted new factual information in its case brief. See Petitioners' Rebuttal Brief re-filed on February 18, 2004 at 2. Per the Department's letter dated February 13, 2004, Zhejiang re-filed its case brief on February 18, 2004.

Scope of the Antidumping Duty Order

The products covered by this order are natural honey, artificial honey containing more than 50 percent natural honey by weight, preparations of natural honey containing more than 50 percent natural honey by weight, and flavored honey. The subject merchandise includes all grades and colors of honey whether in liquid, creamed, comb, cut comb, or chunk form, and whether packaged for retail or in bulk form.

The merchandise subject to this review is currently classifiable under subheadings 0409.00.00, 1702.90.90, and 2106.90.99 of the Harmonized Tariff Schedule of the United States (HTSUS). Although the HTSUS subheadings are provided for convenience and the U.S. Customs and Border Protection (CBP) purposes, the Department's written description of the merchandise under order is dispositive.

Analysis of Comments Received

All issues raised in the briefs are addressed in the Issues and Decision Memorandum, which is hereby adopted by this notice. A list of the issues raised, all of which are in the Issues and Decision Memorandum, is attached to this notice as Appendix I. Parties can find a complete discussion of all issues raised in the briefs and the corresponding recommendations in this public memorandum which is on file in the Central Records Unit (CRU), room B-099 of the main Department building. In addition, a complete version of the Issues and Decision Memorandum can be accessed directly on the Web at http://ia.ita.doc.gov. The paper copy and electronic version of the Issues and Decision Memorandum are identical in content.

Changes Since the Preliminary Results

Based on the comments received from the interested parties, we have made changes to the margin calculation for Zhejiang. For a discussion of these changes, see Issues and Decision Memorandum. For business proprietary details of our analysis of the changes described below to our preliminary margin calculations, see Memorandum to the File regarding Analysis of the Data Submitted by Zhejiang Native Produce and Animal By-Products Import & Export Corp. a.k.a. Zhejiang Native Produce and Animal By-Products Import and Export Group Corporation (Zhejiang) in the Final Results of the First Administrative Review of the Antidumping Duty Order on Honey from the People's Republic of China (April 28, 2004) (Final Analysis Memo) and Memorandum to the File regarding Final Results of the First Administrative Review of the Antidumping Duty Order on Honey from the People's Republic of China; Factors of Production Valuation (April 28, 2004) (Final FOP Memo).

For the final results, we adjusted our inflation calculations used to achieve a surrogate raw honey value contemporaneous with the POR and adjusted our calculation of net U.S. prices. We also adjusted the surrogate value for labor to reflect the updated PRC regression-based wages calculated by the Department. See Issues and Decision Memorandum at Comments 4 and 6, and Final FOP Memo at 2 and Attachments 1-4.

The PRC-Wide Rate and Application of Facts Otherwise Available

The Department did not receive comments on its preliminary determination to apply adverse facts available (AFA) to the PRC-wide entity (including Kunshan, Henan, and High Hope). Therefore, we have not altered our decision to apply total AFA to the PRC-wide entity (including Kunshan, Henan, and High Hope) for these final results, in accordance with sections 776(a)(2)(A) and (B), as well as section 776(b) of the Tariff Act of 1930, as amended (the Act). For a complete discussion of the Department's decision to apply total AFA, see Preliminary Results at 69991 and 69992. Furthermore, as stated in the Preliminary Results, the Department determined that because Kunshan, Henan, and High Hope did not respond to our requests for information regarding separate rates, that these companies do not merit separate rates. See, e.g., Natural Bristle Paint Brushes and Brush Heads from the People's Republic of China; Preliminary Results of Antidumping Duty Administrative Review, 61 FR 57389 (November 6, 1996); Final Determination of Sales at Less than Fair Value: Certain Helical Spring Lock Washers from China, 58 FR 48833 (September 20, 1993); and Final Determination of Sales at Less than Fair Value: Certain Compact Ductile Iron Waterworks Fittings and Accessories Thereof from the People's Republic of China, 58 FR 37908 (July 14, 1993). Consequently, consistent with the statement in our notice of initiation, we preliminarily found that, because these companies did not qualify for separate rates, they were deemed to be part of the PRC-entity. See Initiation of Antidumping and Countervailing Duty Administrative Review and Requests for Revocations in Part, 68 FR 3009 (January 22, 2003) at 3011 n.2. See also Preliminary Results at 6990.

As above stated, the PRC-wide entity did not respond to our requests for information. Because the PRC-wide entity did not respond to our request for information, we find it necessary, under sections 776(a)(2) and 776(b) of the Act, to use AFA as the basis for these final results of review for the PRC-wide entity. In accordance with the Department's practice, we have assigned to the PRC-wide entity (including Kunshan, Henan, and High Hope) the rate of 183.80 percent as AFA. See, e.g., Rescission of Second New Shipper Review and Final Results and Partial Rescission of First Antidumping Duty Administrative Review: Brake Rotors from the People's Republic of China, 64 FR 61581, 61584 (November 12, 1999). This rate is the highest dumping margin from any segment of this proceeding and was established in the less-than-fair-value investigation based on information contained in the petition. See Notice of Final Determination of Sales at Less Than Fair Value; Honey from the PRC, 66 FR 50608 (October 4, 2001) and accompanying Issues and Decision Memorandum (Final Determination). See also Notice of Amended Final Determination of Sales at Less Than Fair Value and Antidumping Duty Order; Honey From the People's Republic of China, 66 FR 63670 (December 10, 2001). As discussed below, this rate has been corroborated.

Corroboration of Secondary Information Applied as AFA

Section 776(c) of the Act requires that, when the Department relies on secondary information for purposes of facts available, the Department shall corroborate such information, to the extent practicable, from independent sources. To be considered corroborated, information must be found to be both reliable and relevant. As stated above, we are applying as AFA the highest rate from any segment of the proceeding. See Final Determination. The information upon which the AFA rate is based in the current review was corroborated in the final determination and revisited in the preliminary results. See Preliminary Results at 69991 and 69992, and Memorandum to the File, dated December 10, 2003, placing the Memorandum to Richard O. Weible, Office Director, The Use of Facts Available for the PRC-wide entity; and Corroboration of Secondary Information, dated May 4, 2001 (AFA & Corroboration Memo) on the record of this administrative review. No information has been presented in the current review that calls into question the reliability of this information. Thus, the Department finds that the information is reliable. Following the methodology of our corroboration analysis from the less-than-fair-value (LTFV) investigation, we compared the petition information to information on the record of this proceeding. We find that the petition information is reliable when compared to the range of Zhejiang's reported gross unit prices for honey it sold to the United States during the current POR. See AFA & Corroboration Memo at 5 and Exhibit 7 of Zhejiang's July 18, 2003, submission. Moreover, following the methodology of our corroboration analysis from the LTFV investigation, the highest calculated NV for Zhejiang (calculated as a separate NV for each of its two processed honey suppliers) is comparable to the NV relied on by petitioners to calculate the petition rate. See AFA & Corroboration Memo at 6 and the Margin Calculation Output for Zhejiang, dated December 10, 2003.⁴

⁴ Following the methodology of our corroboration analysis from the less than fair value investigation, we compared the petition information to information on the record of this proceeding. We find that the petition information is both reasonable and reliable when compared to the range of Zhejiang's reported gross unit prices for honey it sold to the United States during the current POR. See AFA & Corroboration Memo at 5 and Exhibit 7 of Zhejiang's July 18, 2003, submission. Moreover, following the methodology of our corroboration analysis from the LTFV investigation, the highest calculated NV for Zhejiang (calculated as a separate NV for each of its two processed honey suppliers) is comparable to the NV relied on by petitioners to calculate the petition rate. See AFA & Corroboration Memo at 6 and the Margin Calculation Output for Zhejiang, dated April 28, 2004.

With respect to the relevance aspect of corroboration, the Department will consider information reasonably at its disposal as to whether there are circumstances that would render a margin irrelevant. See Tapered Roller Bearings and Parts Thereof, Finished and Unfinished, from Japan, and Tapered Roller Bearings, Four Inches or Less in Outside Diameter, and Components Thereof, from Japan; Preliminary Results of Antidumping Duty Administrative Reviews and Partial Termination of Administrative Reviews, 61 FR 57391, 57392 (November 6, 1996) (TRBs). Where circumstances indicate that the selected margin is not appropriate as AFA, the Department will disregard the margin and determine an appropriate margin. See TRBs at 57392. See also Fresh Cut Flowers from Mexico; Final Results of Antidumping Duty Administrative Review, 61 FR 6812, 6814 (February 22, 1996) (disregarding the highest margin in the case as best information available because the margin was based on another company's uncharacteristic business expense resulting in an extremely high margin). Similarly, the Department does not apply a margin that has been discredited. See D & L Supply Co. v. United States, 113 F.3d 1220, 1221 (Fed. Cir. 1997) (the Department will not use a margin that has been judicially invalidated). The rate used is the rate currently applicable to all exporters subject to the PRC-wide rate. Further, as noted above, there is no information on the record that the application of this rate would be inappropriate in this administrative review or that the margin is not relevant. Therefore, we find that the information is relevant. Accordingly, the Department determines that the PRC-wide entity rate of 183.80 is, to the extent practicable, corroborated within the meaning of section 776(c) of the Act.

Final Results of Review

We determine that the following antidumping duty margins exist:

Exporter | POR | Margin (percent)
Zhejiang Native Produce & Animal By-Products Import & Export Corporation a.k.a. Zhejiang Native Produce & Animal By-Products Import & Export Group Corporation | 02/10/01-11/30/02 | 68.35
PRC-wide Entity (including Kunshan, Henan, and High Hope) | 02/10/01-11/30/02 | 183.80

For details on the calculation of the antidumping duty weighted-average margin for Zhejiang, see the Final Analysis Memo, dated April 28, 2004. A public version of this memorandum is on file in the CRU.

Cash Deposit Requirements

The following deposit requirements will be effective upon publication of these final results for this administrative review for all shipments of honey from the PRC, entered, or withdrawn from warehouse, for consumption on or after the date of publication, as provided by section 751(a)(2)(c) of the Act: (1) For Zhejiang, the cash deposit rate will be the rate listed above under the “Final Results of Review” section; (2) for previously-reviewed PRC and non-PRC exporters with separate rates, the cash deposit rate will be the company-specific rate established for the most recent period; (3) for all other PRC exporters which do not have a separate rate, including the exporters named as part of the PRC-wide entity above, the cash deposit rate will be the PRC-wide entity rate, 183.80 percent; and (4) for all other non-PRC exporters of the subject merchandise, the cash deposit rate will be the rate applicable to the PRC exporter that supplied that non-PRC exporter. These deposit requirements shall remain in effect until publication of the final results of the next administrative review.

Assessment of Antidumping Duties

The Department shall determine, and CBP shall assess, antidumping duties on all appropriate entries. For assessment purposes for Zhejiang, we do not have the information to calculate entered value because Zhejiang was unable to supply importer-specific information for the subject merchandise.⁵ Accordingly, we have calculated customer-specific duty assessment rates for Zhejiang by aggregating the dumping margins calculated for all U.S. sales to each customer and dividing this amount by the total quantity of those sales. We will direct CBP to assess the resulting rates or the entered CBP quantity for each of the importer's entries during the POR. For all other entries, we will direct CBP to assess the resulting assessment rates against the CBP values for the subject merchandise on each of the exporter's entries during the POR. In accordance with § 351.106(c)(2), we will instruct CBP to liquidate any entries without regard to antidumping duties for which the assessment rate is de minimis. The Department will issue appropriate assessment instructions directly to CBP within 15 days of publication of the final results of review.

⁵ Rather, Zhejiang reported total sales value. See Zhejiang's July 18, 2003, submission at Exhibit 7.

Notification to Importers

This notice serves as a final reminder to importers of their responsibility under § 351.402(f) of the Department's regulations to file a certificate regarding the reimbursement of antidumping duties prior to liquidation of the relevant entries during this review period. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(1) and 777(i)(1) of the Act.

Dated: April 28, 2004.
James J. Jochum,
Assistant Secretary for Import Administration.

Appendix I—List of Issues

Comment 1: Costs Incurred by Zhejiang on Certain U.S. Sales

Comment 2: Costs Associated with Shipping Honey Samples to U.S. Customers

Comment 3: Surrogate Value Source for Raw Honey

Comment 4: Calculation of Inflators for the Raw Honey Surrogate Value

Comment 5: Surrogate Source for Factory Overhead, Selling, General and Administrative (SG&A), and Profit Ratios

Comment 6: Deduction of Bank Fees from U.S. price

Comment 7: Exclusion of Certain Import Data in Calculating Certain Surrogate Values

[FR Doc. 04-10234 Filed 5-4-04; 8:45 am]

BILLING CODE 3510-DS-P